DEPARTMENT OF LABOR

Occupational Safety and Health Administration

[Docket No. OSHA-2007-0083]

Applied Research Laboratories of South Florida, LLC; Grant of Expansion of Recognition

AGENCY: Occupational Safety and Health Administration (OSHA), Labor.

ACTION: Notice.

SUMMARY: In this notice, OSHA announces the final decision to expand the scope of recognition for Applied Research Laboratories of South Florida, LLC as a Nationally Recognized Testing Laboratory (NRTL).

DATES: The expansion of the scope of recognition becomes effective on January 15, 2021.

FOR FURTHER INFORMATION CONTACT: Information regarding this notice is available from the following sources:

Press inquiries: Contact Mr. Frank Meilinger, Director, OSHA Office of Communications, U.S. Department of Labor, telephone: (202) 693-1999; email: meilinger.francis2@dol.gov.

General and technical information: Contact Mr. Kevin Robinson, Director, Office of Technical Programs and Coordination Activities, Directorate of Technical Support and Emergency Management, Occupational Safety and Health Administration, U.S. Department of Labor, phone: (202) 693-2110 or email: robinson.kevin@dol.gov.

SUPPLEMENTARY INFORMATION:

I. Notice of Final Decision

OSHA hereby gives notice of the expansion of the scope of recognition for Applied Research Laboratories of South Florida LLC (ARL). ARL's expansion cover the addition of two test standards to the NRTL scope of recognition.

OSHA's recognition of a NRTL signifies that the organization meets the requirements specified in 29 CFR 1910.7. Recognition is an acknowledgment that the organization can perform independent safety testing and certification of the specific products covered within the scope of recognition. Each NRTL's scope of recognition includes (1) the type of products the NRTL may test, with each type specified by the applicable test standard; and (2) the recognized site(s) that has/have the technical capability to perform the product-testing and product-certification activities for test standards within the NRTL's scope. Recognition is not a delegation or grant of government authority; however, recognition enables employers to use products approved by the NRTL to meet OSHA standards that require product testing and certification.

The agency processes applications by a NRTL for initial recognition and for an expansion or renewal of this recognition, following requirements in Appendix A to 29 CFR 1910.7. This appendix requires that the agency publish two notices in the Federal Register in processing an application. In the first notice, OSHA announces the application and provides a preliminary finding. In the second notice, the agency provides the final decision on the application. These notices set forth the NRTL's scope of recognition or modifications of that scope. OSHA maintains an informational web page for each NRTL, including ARL, which details the NRTL's scope of recognition. These pages are available from the OSHA website at http://www.osha.gov/dts/otpca/nrtl/index.html.

ARL currently has one facility (site) recognized by OSHA for product testing and certification, with headquarters located at: Applied Research Laboratories of South Florida LLC, 5371 NW 161st Street, Miami, Florida 33014. A complete list of ARL's scope of recognition is available at https://www.osha.gov/dts/otpca/nrtl/arl.html.

ARL submitted an application, dated June 13, 2019 (OSHA-2007-0083-0055), to expand recognition to include two additional test standards. OSHA staff performed a detailed analysis of the application packet and reviewed other pertinent information. OSHA did not perform any on-site reviews in relation to this application. OSHA published the preliminary notice announcing ARL's expansion application in the Federal Register on September 22, 2020 (85 FR 59554). The agency requested comments by October 7, 2020, but it received no comments in response to this notice. OSHA is now proceeding with this final notice to grant expansion of ARL's scope of recognition.

To obtain or review copies of all public documents pertaining to ARL's application, go to www.regulations.gov or contact the Docket Office, Occupational Safety and Health Administration at 202-693-2350. Docket No. OSHA-2007-0083 contains all materials in the record concerning ARL's recognition.

II. Final Decision and Order

OSHA staff examined ARL's expansion application, the capability to meet the requirements of the test standards, and other pertinent information. Based on a review of this evidence, OSHA finds that ARL meets the requirements of 29 CFR 1910.7 for expansion of the scope of recognition, subject to the conditions listed below. OSHA, therefore, is proceeding with this final notice to grant the expansion of ARL's scope of recognition. OSHA limits the expansion of ARL's scope of recognition to testing and certification of products for demonstration of conformance to the test standards listed below in Table 1.

Table 1—List of Appropriate Test Standards for Inclusion in ARL's NRTL Scope of Recognition
Test standard | Test standard title
ANSI/UL 399 | Standard for Drinking-Water Coolers.
ANSI/UL 471 | Standard for Commercial Refrigerators and Freezers.

OSHA's recognition of any NRTL for a particular test standard is limited to equipment or materials for which OSHA standards require third-party testing and certification before using them in the workplace. Consequently, if a test standard also covers any products for which OSHA does not require such testing and certification, a NRTL's scope of recognition does not include these products.

The American National Standards Institute (ANSI) may approve the test standards listed above as American National Standards. However, for convenience, the designation of the standards-developing organization for the standard as opposed to the ANSI designation may be used. Under the NRTL Program's policy (see OSHA Instruction CPL 1-0.3, Appendix C, paragraph XIV), any NRTL recognized for a particular test standard may use either the proprietary version of the test standard or the ANSI version of that standard. Contact ANSI to determine whether a test standard is currently ANSI-approved.

A. Conditions

In addition to those conditions already required by 29 CFR 1910.7, ARL must abide by the following conditions of the recognition:

1. ARL must inform OSHA as soon as possible, in writing, of any change of ownership, facilities, or key personnel, and of any major change in the operations as a NRTL, and provide details of the change(s);

2. ARL must meet all the terms of the recognition and comply with all OSHA policies pertaining to this recognition; and

3. ARL must continue to meet the requirements for recognition, including all previously published conditions on ARL's scope of recognition, in all areas for which it has recognition.

Pursuant to the authority in 29 CFR 1910.7, OSHA hereby expands the scope of recognition of ARL, subject to the conditions specified above.

III. Authority and Signature

Loren Sweatt, Principal Deputy Assistant Secretary of Labor for Occupational Safety and Health, 200 Constitution Avenue NW, Washington, DC 20210, authorized the preparation of this notice. Accordingly, the agency is issuing this notice pursuant to 29 U.S.C. 657(g)(2)), Secretary of Labor's Order No. 8-2020 (85 FR 58393, Sept. 18, 2020), and 29 CFR 1910.7.

Signed at Washington, DC, on January 11, 2021.
Loren Sweatt,
Principal Deputy Assistant Secretary of Labor for Occupational Safety and Health.

[FR Doc. 2021-00848 Filed 1-14-21; 8:45 am]

BILLING CODE 4510-26-P